DEPARTMENT OF TRANSPORTATION

Federal Aviation Administration

[Summary Notice No. PE-2005-60]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591. This notice is published pursuant to 14 CFR 11.85 and 11.91.

Issued in Washington, DC, on October 17, 2005.
Anthony F. Fazio,
Director, Office of Rulemaking.

Dispositions of Petitions

Docket No.: FAA-2005-22171.

Petitioner: Shuttle America Corporation.

Sections of 14 CFR Affected: 14 CFR 121.415(a), 121.417, and 121.421.

Description of Relief Sought/Disposition: To allow Shuttle America Corporation (SAC) and its flight attendants to count the training and experience accomplished for flight attendants on the EMB-170 while those flight attendants were employed by Chautauqua Airlines, Inc. as if that training and experience were accomplished at SAC.

Grant, 9/29/2005, Exemption No. 8642.

Docket No.: FAA-2001-9862.

Petitioner: Bright Star Aviation.

Section of 14 CFR Affected: 14 CFR 135.143(c)(2).

Description of Relief Sought/Disposition: To allow Bright Star Aviation to operate certain aircraft under part 135 without a TSO-C112 (Mode S) transponder installed on those aircraft.

Grant, 9/30/2005, Exemption No. 7078C.

Docket No.: FAA-2003-16254.

Petitioner: Sunset Aviation, Inc.

Section of 14 CFR Affected: 14 CFR 135.143(c)(2).

Description of Relief Sought/Disposition: To allow Sunset Aviation, Inc., to operate certain aircraft under part 135 without a TSO-C112 (Mode S) transponder installed on those aircraft.

Grant, 9/30/2005, Exemption No. 8147A.

Docket No.: FAA-2005-22479.

Petitioner: Yellow Bird Aviation, Inc.

Section of 14 CFR Affected: 14 CFR 135.143(c)(2).

Description of Relief Sought/Disposition: To allow Yellow Bird Aviation, Inc., to operate certain aircraft under part 135 without a TSO-C112 (Mode S) transponder installed on those aircraft.

Grant, 9/30/2005, Exemption No. 8643.

Docket No.: FAA-2005-22497.

Petitioner: Omni Air International.

Section of 14 CFR Affected: 14 CFR 121.434(c)(1)(ii).

Description of Relief Sought/Disposition: To allow Omni Air International to substitute a qualified and authorized check airman in place of an FAA inspector to observe a qualifying pilot in command (PIC) while that PIC is performing prescribed duties during at least one flight leg that includes a takeoff and a landing when completing initial or upgrade training as specified in § 121.434.

Grant, 9/30/2005, Exemption No. 8644.

Docket No.: FAA-2004-18598.

Petitioner: Evergreen International Aviation, Inc.

Section of 14 CFR Affected: 14 CFR 91.319(a) and (c).

Description of Relief Sought/Disposition: To allow Evergreen International Aviation, Inc., to operate its modified Boeing 747-200 aircraft which holds an experimental airworthiness certificate issued for the purpose of research and development, to conduct aerial liquid dispensing demonstrations for compensation or hire.

Grant, 9/30/2005, Exemption No. 8645.

Docket No.: FAA-2002-12181.

Petitioner: Atlas Air, Inc.

Section of 14 CFR Affected: 14 CFR 121.583(a)(8).

Description of Relief Sought/Disposition: To allow up to three dependents of Atlas Air, Inc., employees to be added to the list of persons specified in § 121.583(a)(8) that Atlas Air is authorized to transport without complying with certain passenger-carrying aircraft requirements in part 121.

Grant, 10/5/2005, Exemption No. 8646.

[FR Doc. 05-21464 Filed 10-26-05; 8:45 am]

BILLING CODE 4910-13-M/P